DEPARTMENT OF THE INTERIOR

National Park Service

[NPS-WASO-NRNHL-22047; PPWOCRADI0, PCU00RP14.R50000]

National Register of Historic Places; Notification of Pending Nominations and Related Actions

AGENCY: National Park Service, Interior.

ACTION: Notice.

SUMMARY: The National Park Service is soliciting comments on the significance of properties nominated before September 17, 2016, for listing or related actions in the National Register of Historic Places.

DATES: Comments should be submitted by October 24, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before September 17, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

Shasta County

Twin Lakes Fire Tool Cache, (Lassen Volcanic National Park MPS) Lassen Volcanic National Park, Mineral, 16000745

GEORGIA

Fulton County

Island Ford Lodge, 1978 Island Ford Parkway, Sandy Springs, 16000747

MINNESOTA

Otter Tail County

Fergus Falls State Hospital (Boundary Increase), 1400 Union Ave. N. and bounded by Fir Ave. and Park St., Fergus Falls, 16000746

MISSOURI

Franklin County

Twelker, Christopher and Johanna, Farm, 4749 MO 185, New Haven, 16000748

Greene County

Bailey School, 501 W. Central St., Springfield, 16000749

St. Louis Independent City

Century Electric Foundry Complex, 3711-3739, 3815R Market St., 3700-3800 Forest Park Ave., St. Louis (Independent City), 16000750

NEW YORK

Albany County

St. Paul's Evangelical Lutheran Church, 1728 Helderberg Trail, Berne, 16000751

Rensselaer County

Newton-Taber-Martin Farm, 149 Clarks Chapel Rd., Nassau, 16000752

OHIO

Butler County

Morgan Township House, 6464 Okeana Drewersburg Rd., Okeana, 16000753

Franklin County

Franklin Park Medical Center, 1829 East Long St., Columbus, 16000754

OREGON

Multnomah County

Holden, William R., House (Boundary Decrease), 6353 SE. Yamill St., Portland, 16000755

SOUTH CAROLINA

Richland County

Melrose Heights-Oak Lawn-Fairview Historic District, Bounded by Butler and Princeton Sts., Maiden Ln., Michigan St. and Millwood Ave., Woodrow and King Sts., Kirby, Trenhol, Columbia, 16000756

WISCONSIN

Sheboygan County

Sheboygan Valley Land and Lime Company, W6631 County Road MM, Town of Rhine, 16000757

Authority: 60.13 of 36 CFR part 60.

Dated: September 22, 2016.
J. Paul Loether,
Chief, National Register of Historic Places/National Historic Landmarks Program.

[FR Doc. 2016-24260 Filed 10-6-16; 8:45 am]

BILLING CODE 4312-52-P